DEPARTMENT OF TRANSPORTATION

Federal Aviation Administration

14 CFR Part 39

[Docket No. 95-ANE-30-AD; Amendment 39-9738; AD 96-18-14]

RIN 2120-AA64

Airworthiness Directives; Hartzell Propeller Inc. HC-A3V, HC-B3M, HC-B3T, HC-B4M, HC-B4T, and HC-B5M Series Propellers; Correction

AGENCY: Federal Aviation Administration, DOT.

ACTION: Correcting amendments.

SUMMARY: This document contains corrections to the final airworthiness directive (AD), which was published in the Federal Register on September 11, 1996, (61 FR 47809). The regulations related to Hartzell Propeller Inc. HC-A3V, HC-B3M, HC-B3T, HC-B4M, HC-B4T, and HC-B5M series propellers blade inspection and replacement.

EFFECTIVE DATE: October 16, 1996.

FOR FURTHER INFORMATION CONTACT: Tomaso DiPaolo, Aerospace Engineer, Chicago Aircraft Certification Office, FAA, Small Airplane Directorate, 2300 E. Devon Ave., Des Plaines, IL 60018; telephone (847) 294-7031; fax (847) 294-7834.

SUPPLEMENTARY INFORMATION:

Background

The final AD 96-18-14 that is the subject of these corrections affects owners and operators of Hartzell Propeller Inc. HC-A3V, HC-B3M, HC-B3T, HC-B4M, HC-B4T, and HC-B5M series propellers who are required to perform hub replacements over a 10-year time frame with a concurrent blade and blade clamp inspection.

Need for Correction

As published, AD 96-18-14 (61 FR 47809, September 11, 1996) contains errors that may prove to be misleading and need to be clarified.

List of Subjects in 14 CFR Part 39

Air transportation, Aircraft, Aviation safety, Safety.

Accordingly, 14 CFR part 39 is corrected by making the following correcting amendments:

PART 39—AIRWORTHINESS DIRECTIVES

1. The authority citation for part 39 continues to read as follows:

Authority: 49 U.S.C. 106(g), 40113, 44701.

§ 39.13 [Corrected]

2. Amend AD 96-18-14 in the Compliance section as follows:

a. Revise paragraph (c)(3) as set forth below; and

b. In Table 1 at the end of paragraph (c)(5), in the entry for Hub Model Number HC-B4MP-3, under the column heading “Sept. 2002”, revise “1394-3033” to read “1394-2034”, and in the entry for Hub Model Number HC-B5MP-5, under the column heading “March 2002”, remove “5-6”, and under the column heading “Sept. 2002”, remove “7-8”.

96-18-14 Hartzell Propeller Inc.: Amendment 39-9738, Docket No. 95-ANE-30.

* * * * *

Compliance: * * *

(c) * * *

(3) The two-letter prefix of some existing propeller hub serial numbers may be followed by a third letter ‘A.’ The presence or absence of this letter has no significance in determining compliance.

* * * * *

Issued in Burlington, MA, on August 20, 2002.
Jay J. Pardee,
Manager, Engine and Propeller Directorate, Aircraft Certification Service.

[FR Doc. 02-21831 Filed 8-27-02; 8:45 am]

BILLING CODE 4910-13-P